DEPARTMENT OF THE INTERIOR

National Park Service

[NPS-AKRO-LACL-ANIA-WRST-GAAR-CAKR-KOVA-21821; PPAKAKROR4; PPMPRLE1Y.LS0000]

Notice of Open Public Meetings for the National Park Service Alaska Region Subsistence Resource Commission Program

AGENCY: National Park Service, Interior.

ACTION: Meeting notice.

SUMMARY: As required by the Federal Advisory Committee Act (16 U.S.C. Appendix 1-16), the National Park Service (NPS) is hereby giving notice that the Lake Clark National Park Subsistence Resource Commission (SRC), Aniakchak National Monument SRC, Wrangell-St. Elias National Park SRC, Cape Krusenstern National Monument SRC, Kobuk Valley National Park SRC, and Gates of the Arctic National Park SRC will hold public meetings to develop and continue work on NPS subsistence program recommendations, and other related regulatory proposals and resource management issues. The NPS SRC program is authorized under Section 808 of the Alaska National Interest Lands Conservation Act (16 U.S.C. 3118), title VIII.

Lake Clark National Park SRC Meeting/Teleconference Date and Location: The Lake Clark National Park SRC will meet from 1:00 a.m. to 5:00 p.m. or until business is completed on Wednesday, September 28, 2016, at the Community Hall in Nondalton, AK. Teleconference participants must call the National Park Service office at (907) 644-3648, prior to the meeting to receive teleconference passcode information. For more detailed information regarding this meeting, or if you are interested in applying for SRC membership, contact Designated Federal Official Margaret L. Goodro, Superintendent, at (907) 644-3627, or via email at margaret_goodro@nps.gov, or Liza Rupp, Subsistence Manager, at (907) 644-3648, or via email at liza_rupp@nps.gov or Clarence Summers, Subsistence Manager, at (907) 644-3603 or via email at clarence_summers@nps.gov.

Aniakchak National Monument SRC Meeting/Teleconference Date and Location: The Aniakchak National Monument SRC will meet from 2:00 p.m. to 7:30 p.m. or until business is completed on Friday, September 30, 2016, at the Subsistence Building in Chignik Lagoon, AK. Teleconference participants must call the National Park Service at (907) 246-2154 or (907) 246-3305, prior to the meeting for teleconference call in information. For more detailed information regarding this meeting, or if you are interested in applying for SRC membership, contact Linda Chisholm, Subsistence Coordinator, at (907) 246-2154, or via email linda_chisholm@nps.gov, or Clarence Summers, Subsistence Manager, at (907) 644-3603, or via email clarence_summers@nps.gov.

Wrangell-St. Elias National Park SRC Meeting Dates and Locations: The Wrangell-St. Elias National Park SRC will meet from 10:00 a.m. to 5:00 p.m. or until business is completed on Wednesday, October 12, 2016, at the Northway Village Hall in Northway, AK. On Thursday, October 13, 2016, the Wrangell-St. Elias National Park SRC will meet from 9:00 a.m. to 5:00 p.m. or until business is completed at the Musher's Hall in Tok, AK. For more detailed information regarding these meetings, or if you are interested in applying for SRC membership, contact Barbara Cellarius, Subsistence Coordinator, at (907) 822-7236 or by email at barbara_cellarius@nps.gov or Clarence Summers, Subsistence Manager, at (907) 644-3603 or via email at clarence_summers@nps.gov.

Gates of The Arctic National Park SRC Meeting Date and Location: The Gates of the Arctic National Park SRC will meet from 9:00 a.m. to 5:00 p.m. or until business is completed on Tuesday, November 15, 2016, and Wednesday, November 16, 2016, at the Gates of the Arctic National Park and Preserve office in Fairbanks, AK. For more detailed information regarding this meeting, or if you are interested in applying for SRC membership, contact Designated Federal Official Greg Dudgeon, Superintendent, at (907) 457-5752, or via email at greg_dudgeon@nps.gov or Marcy Okada, Subsistence Coordinator, at (907) 455-0639 or via email at marcy_okada@nps.gov or Clarence Summers, Subsistence Manager, at (907) 644-3603, or via email at clarence_summers@nps.gov.

Cape Krusenstern National Monument SRC Meeting Date and Location: The Cape Krusenstern National Monument SRC will meet from 1:00 p.m. to 5:00 p.m. or until business is completed on Tuesday, November 8, 2016, and from 9:00 a.m. to 12:00 p.m. on November 9, 2016, at the Northwest Arctic Heritage Center in Kotzebue, AK. For more detailed information regarding this meeting or if you are interested in applying for SRC membership, contact Hannah Atkinson, Cultural Resource Specialist at the Cape Krusenstern National Monument office at (907) 442-4342, or via email at hannah_atkinson, or Clarence Summers, Subsistence Manager, at (907) 644-3603 or via email at clarence_summers@nps.gov.

Kobuk Valley National Park SRC Meeting Date and Location: The Kobuk Valley National Park SRC will meet from 1:00 p.m. to 5:00 p.m. or until business is completed on Thursday, November 10, 2016, and from 9:00 a.m. to 12:00 p.m. on Friday, November 11, 2016, at the Northwest Arctic Heritage Center in Kotzebue, AK. For more detailed information regarding this meeting or if you are interested in applying for SRC membership, contact Hannah Atkinson, Cultural Resource Specialist at the Kobuk Valley National Park office at (907) 442-4342, or via email at hannah_atkinson, or Clarence Summers, Subsistence Manager, at (907) 644-3603 or via email at clarence_summers@nps.gov.

Proposed Meeting Agenda: The agenda may change to accommodate SRC business. The proposed meeting agenda for each meeting includes the following:

1. Call to Order—Confirm Quorum

2. Welcome and Introduction

3. Review and Adoption of Agenda

4. Approval of Minutes

5. Superintendent's Welcome and Review of the SRC Purpose

6. SRC Membership Status

7. SRC Chair and Members' Reports

8. Superintendent's Report

9. Old Business

10. New Business

11. Federal Subsistence Board Update

12. Alaska Boards of Fish and Game Update

13. National Park Service Reports

a. Ranger Update

b. Resource Manager's Report

c. Subsistence Manager's Report

14. Public and Other Agency Comments

15. Work Session

16. Set Tentative Date and Location for Next SRC Meeting

17. Adjourn Meeting

SRC meeting locations and dates may change based on inclement weather or exceptional circumstances. If the meeting dates and locations are changed, the Superintendent will issue a press release and use local newspapers and radio stations to announce the rescheduled meeting.

SUPPLEMENTARY INFORMATION: SRC meetings are open to the public and will have time allocated for public testimony. The public is welcome to present written or oral comments to the SRC. SRC meetings will be recorded and meeting minutes will be available upon request from the Superintendent for public inspection approximately six weeks after the meeting. Before including your address, telephone number, email address, or other personal identifying information in your comment, you should be aware that your entire comment—including your personal identifying information—may be made publicly available at any time. While you may ask us in your comment to withhold your personal identifying information from public review, we cannot guarantee that we will be able to do so.

Exceptional Circumstance: Pursuant to the Federal Advisory Committee Management Regulations (41 CFR 102-3.150), the notice for this meeting is given less than 15 calendar days prior to the meeting due to exceptional circumstances. Given the exceptional urgency of the events, the agency and advisory committee deemed it important for the advisory committee to meet on the date given to discuss implementation strategies for NPS subsistence collections and plant gathering regulations.

Alma Ripps,
Chief, Office of Policy.

[FR Doc. 2016-22350 Filed 9-15-16; 8:45 am]

BILLING CODE 4310-EE-P